FEDERAL TRADE COMMISSION

Granting of Request for Early Termination of the Waiting Period Under the Premerger Notification Rules

Section 7A of the Clayton Act, 15 U.S.C. 18a, as added by Title II of the Hart-Scott-Rodin Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
August 1, 2012 Through August 31, 2012
08/01/2012
20120945 | G | Technip S.A.; The Shaw Group Inc.; Technip S.A.
20121154 | G | DTE Energy Company; GDF Suez S.A.; DTE Energy Company.
20121155 | G | DTE Energy Company; Duke Energy Corporation; DTE Energy Company.
08/03/2012
20121098 | G | Time Warner Inc.; Bleacher Report, Inc.; Time Warner Inc.
20121130 | G | Marcato International Ltd.; Corrections Corporation of America; Marcato International Ltd.
20121137 | G | Oracle Corporation; Massy Mehdipour; Oracle Corporation.
20121150 | G | Robert J. Pera; Michael E. Heisley, Sr.; Robert J. Pera.
20121153 | G | Xcel Energy Inc.; Bicent Power LLC; Xcel Energy Inc.
20121156 | G | Odyssey Investment Partners Fund IV, L.P.; Monitor Clipper Equity Partners II, L.P.; Odyssey Investment Partners Fund IV, L.P.
20121162 | G | General Atlantic Partners 90, L.P.; Box, Inc.; General Atlantic Partners 90, L.P.
20121165 | G | Mr. Steve Wang; Andrew Nikou; Mr. Steve Wang.
20121166 | G | HealthCare Partners Medical Group; Medical Group Holding Company, LLC; HealthCare Partners Medical Group.
20121178 | G | Manuel J. Moroun; Universal Truckload Services, Inc.; Manuel J. Moroun.
08/06/2012
20121082 | G | Bayer AG; AgraQuest, Inc.; Bayer AG.
20121177 | G | Universal Truckload Services, Inc.; Mathew T. Moroun; Universal Truckload Services, Inc.
20121179 | G | Mathew T. Moroun; Universal Truckload Services, Inc.; Mathew T. Moroun.
08/08/2012
20121089 | G | AT&T Inc.; Cavalier Wireless, LLC; AT&T Inc.
20121101 | G | 3M Company; Federal Signal Corporation; 3M Company.
20121175 | G | Henri Audet; ABRY Partners IV, L.P.; Henri Audet.
08/09/2012
20121146 | G | Walgreen Co.; Stephen L. LaFrance; Walgreen Co.
08/10/2012
20121181 | G | First Reserve Fund XI, L.P.; Devon Energy Corporation; First Reserve Fund XI, L.P.
20121182 | G | Chart Industries, Inc.; Ravinder K & Pratibha Bansal, spouses; Chart Industries, Inc.
20121183 | G | DreamWorks Animation SKG, Inc.; GTCR Fund IX/A, L.P.; DreamWorks Animation SKG, Inc.
20121187 | G | Dentsu Inc.; Aegis Group plc; Dentsu Inc.
20121188 | G | Sykes Enterprises, Incorporated; Alpine Access, Inc.; Sykes Enterprises, Incorporated.
20121189 | G | ESCO Corporation; Intervale Capital Fund L.P.; ESCO Corporation.
20121190 | G | Ingram Micro Inc.; Brightpoint, Inc.; Ingram Micro Inc.
20121191 | G | Nespresso Acquisition Corporation; Cequel Communications Holdings, LLC; Nespresso Acquisition Corporation.
20121192 | G | Bright Food (Group) Co., Ltd.; Lion/Latimer Investments No. 1 LP; Bright Food (Group) Co., Ltd.
20121193 | G | Nexstar Broadcasting Group, Inc.; Providence Equity Partners VI (Umbrella U.S.) L.P.; Nexstar Broadcasting Group, Inc.
20121194 | G | OGE Energy Corp.; Chesapeake Energy Corporation; OGE Energy Corp.
20121197 | G | Dayton-Cox Trust A; Providence Equity Partners VI (Umbrella U.S.) L.P.; Dayton-Cox Trust A.
08/14/2012
20121028 | G | Berkshire Hathaway Inc.; Jerry L. Wordsworth; Berkshire Hathaway Inc.
20121195 | G | ConAgra Foods, Inc.; Unilever N.V.; ConAgra Foods, Inc.
08/16/2012
20121144 | G | Wells Fargo & Company; Matthias Horch; Wells Fargo & Company.
20121149 | G | Wells Fargo & Company; Volker Straub; Wells Fargo & Company.
20121180 | G | Apple Inc.; AuthenTec, Inc.; Apple Inc.
20121204 | G | Oracle Corporation; Xsigo Systems, Inc.; Oracle Corporation.
20121208 | G | Anil K. Singhal; NetScout Systems, Inc.; Anil K. Singhal.
08/17/2012
20121206 | G | Accenture plc; Octagon Research Solutions, Inc.; Accenture plc.
20121209 | G | JP Morgan Chase & Co.; Natan Peisach; JP Morgan Chase & Co.
20121212 | G | Verisk Analytics, Inc.; Oak Investment XII, Limited Partnership; Verisk Analytics, Inc.
20121213 | G | Silver II Acquisition S.a.r.l.; United Technologies Corporation; Silver II Acquisition S.a.r.l.
20121221 | G | The Williams Companies, Inc.; Explorer Pipeline Company; The Williams Companies, Inc.
20121223 | G | Clyde Blowers Capital Fund III LP; Clyde Blowers Capital Fund II LP; Clyde Blowers Capital Fund III LP.
20121225 | G | Gregory B Maffei; Liberty Media Corporation; Gregory B Maffei.
20121227 | G | The Home Depot, Inc.; U.S. Home Systems, Inc.; The Home Depot, Inc.
08/20/2012
20121184 | G | Roper Industries. Inc.; Sunquest Sponsor Holdings, LLC; Roper Industries, Inc.
20121214 | G | Athene Holding Ltd.; Presidental Life Corporation; Athene Holding Ltd.
08/22/2012
20121069 | G | Ixia; BreakingPoint Systems, Inc.; Ixia.
20121205 | G | Carlyle Partners V GW, L.P.; Genesee & Wyoming Inc.; Carlyle Partners V GW, L.P.
20121226 | G | Gerald F. Smith, Jr.; James A. Perdue; Gerald F. Smith, Jr.
08/24/2012
20121174 | G | TPG Partners VI, L.P.; Par Pharmaceuticals Companies, Inc.; TPG Partners VI, L.P.
20121200 | G | Partners Limited; Alcoa Inc.; Partners Limited.
20121228 | G | Padre Time, LLC; SoCal SportsNet LLC; Padre Time, LLC.
20121230 | G | Dawn Holdings, Inc.; AOT Bedding Super Holdings, LLC; Dawn Holdings, Inc.
20121231 | G | JHAC, LLC; Cleveland Browns Holdings LLC; JHAC, LLC.
20121232 | G | Skagen 2004 Trust; Method Products, Inc.; Skagen 2004 Trust.
20121234 | G | Safeguard Holdings, L.P.; Bank of America Corporation; Safeguard Holdings, L.P.
20121237 | G | KRG Capital Fund IV, L.P.; D&G Management LLC; KRG Capital Fund IV, L.P.
20121238 | G | ArcLight Energy Partners Fund V, L.P.; Manulife Financial Corporation; ArcLight Energy Partners Fund V, L.P.
20121239 | G | ArcLight Energy Partners Fund V, L.P.; Mr. Dean Vanech; ArcLight Energy Partners Fund V, L.P.
20121244 | G | Seven & i Holdings Co., Ltd.; Eliahu Zahavi; Seven & i Holdings Co., Ltd.
20121246 | G | Eagle Rock Energy Partners, L.P.; BP p.l.c.; Eagle Rock Energy Partners, L.P.
20121247 | G | TD Ameritrade Holding Corporation; Knight Capital Group, Inc.; TD Ameritrade Holding Corporation.
20121253 | G | GTCR Fund X/A LP; CCMP Capital Investors II, L.P.; GTCR Fund X/A LP.
08/27/2012
20121245 | G | Donata Holding SE; Peet's Coffee & Tea, Inc.; Donata Holding SE.
20121259 | G | EQT VI (No. 1) Limited Partnership; Carlyle Europe Technology Partners, L.P.; EQT VI (No. 1) Limited Partnership.
08/28/2012
20121211 | G | Jefferies Group, Inc.; Knight Capital Group, Inc.; Jefferies Group, Inc.
20121250 | G | GETCO Holding Company, LLC; Knight Capital Group, Inc.; GETCO Holding Company, LLC.
20121255 | G | Sinclair Broadcast Group, Inc.; Providence Equity Partners VI (Umbrella U.S.) L.P.; Sinclair Broadcast Group, Inc.
08/29/2012
20121104 | G | Becton, Dickinson and Company; Howard Energy Co., Inc.; Becton, Dickinson and Company.
20121216 | G | Cerberus Institutional Partners, L.P.; DigitalGlobe, Inc.; Cerberus Institutional Partners, L.P.
20121222 | G | Parametric Technology Corporation; Marlin Equity II, L.P.; Parametric Technology Corporation.
20121257 | G | New Werner Holding Co., Inc.; Emerson Electric Co.; New Werner Holding Co., Inc.
08/30/2012
20121196 | G | 2003 TIL Settlement; MarkMonitor Holdings, Inc.; 2003 TIL Settlement.
08/31/2012
20121229 | G | State Street Corporation; The Goldman Sachs Group, Inc.; State Street Corporation.
20121260 | G | JDW, III 2006 Irrevocable Trust; Willbanks Metals, Inc.; JDW, III 2006 Irrevocable Trust.
20121266 | G | Compass Investors Inc.; The Toronto-Dominion Bank; Compass Investors Inc.
20121267 | G | Morgan Stanley Offshore Infrastructure Partners A LP; General Electric Company; Morgan Stanley Offshore Infrastructure Partners A LP.
20121277 | G | Continental AG; Parker Hannifin Corporation; Continental AG.
20121283 | G | Titan International, Inc.; Titan Europe Plc; Titan International, Inc.

FOR FURTHER INFORMATION CONTACT: Renee Chapman, Contact Representative, or Theresa Kingsberry, Legal Assistant., Federal Trade Commission, Premerger Notification Office, Bureau of Competition, Room H-303, Washington, DC 20580, (202) 326-3100.

By Direction of the Commission.
Donald S. Clark,
Secretary.

[FR Doc. 2012-22386 Filed 9-11-12; 8:45 am]

BILLING CODE 6750-01-M